TRADE AND DEVELOPMENT AGENCY

SES Performance Review Board

AGENCY: Trade and Development Agency.

ACTION: Notice.

SUMMARY: Notice is hereby given of the appointment of members of the Trade and Development Agency's Performance Review Board.

FOR FURTHER INFORMATION CONTACT: Carolyn Hum, Administrative Officer, Trade and Development Agency, 1000 Wilson Boulevard, Suite 1000, Arlington, VA 22209, (703) 875-4357.

SUPPLEMENTARY INFORMATION: Section 4314(c)(1) through (5), U.S.C., requires each agency to establish, in accordance with regulations prescribed by the Office of Personnel Management, one or more SES performance review boards. The board shall review and evaluate the initial appraisal of a senior executive's performance by the supervisor, along with any recommendations to the appointing authority relative to the performance of the senior executive.

The following have been selected as acting members of the Performance Review Board of the Trade and Development Agency: Leocadia Zak, Deputy Director, U.S. Trade and Development Agency; Geoffrey Jackson, Director for Policy and Program, U.S. Trade and Development Agency; Thomas Hardy, Chief of Staff, U.S. Trade and Development Agency; and Jeri Jensen-Moran, Executive Director for Trade Promotion and Policy, Office of the Under Secretary for International Trade, U.S. Department of Commerce.

Dated: February 10, 2006.
Carolyn Hum,
Administrative Officer.

[FR Doc. 06-1493 Filed 2-16-06; 8:45 am]

BILLING CODE 8040-01-M